DEPARTMENT OF ENERGY

Federal Energy Regulatory Commission

[Docket No. RP02-411-002]

Chandeleur Pipe Line Company; Notice of Compliance Filing

February 26, 2003.

Take notice that on February 24, 2003, Chandeleur Pipe Line Company (Chandeleur) tendered for filing as part of its FERC Gas Tariff, Second Revised Volume No. 1, the following tariff sheets, to become effective October 1, 2002:

Second Substitute Fourth Revised Sheet No. 3

Second Substitute Seventh Revised Sheet No. 19A

Second Substitute Second Revised Sheet No. 19A.02

Second Substitute Fourth Revised Sheet No. 19C

Second Revised Sheet No. 31A

Fifth Revised Sheet No. 32

Substitute 1st Rev Original Sheet No. 32A

Second Substitute Original Sheet No. 52B

Original Sheet No. 52C.

Chandeleur asserts that the purpose of this filing is to comply with the Commission's order issued February 10, 2003, in Docket No. RP02-411-001.

Any person desiring to protest said filing should file a protest with the Federal Energy Regulatory Commission, 888 First Street, NE., Washington, DC 20426, in accordance with § 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 10, 2003.

Magalie R. Salas,
Secretary.

[FR Doc. 03-5105 Filed 3-3-03; 8:45 am]

BILLING CODE 6717-01-P